DEPARTMENT OF TRANSPORTATION

Federal Aviation Administration

14 CFR Part 39

[Docket No. 2001-NM-83-AD; Amendment 39-12191; AD 2001-08-13]

RIN 2120-AA64

Airworthiness Directives; Gulfstream Model G-1159, G-1159A, G-1159B, G-IV, and G-V Series Airplanes

AGENCY: Federal Aviation Administration, DOT.

ACTION: Final rule; correction.

SUMMARY: This amendment corrects and clarifies information in an existing airworthiness directive (AD), applicable to certain Gulfstream Model G-1159, G-1159A, G-1159B, G-IV, and G-V series airplanes, that currently requires an inspection to determine if certain door control valves of the landing gear are installed, and modification of the valve, if necessary. The actions specified in that AD are intended to prevent loss of hydraulic system fluid due to failure of the door control valve of the landing gear, which could require the flight crew to use alternate gear extension procedures (landing gear blow down) for landing of all models. This amendment corrects the requirements of the current AD by specifying appropriate alert customer bulletins for certain airplane models, and clarifying the compliance time for the modification of the door control valve of the landing gear. This amendment is prompted by operators' comments on the existing AD.

DATES: Effective May 10, 2001.

The incorporation by reference of certain publications listed in the regulations was approved previously by the Director of the Federal Register as of May 10, 2001 (66 FR 20734, April 25, 2001).

FOR FURTHER INFORMATION CONTACT: Frank Mokry, Aerospace Engineer, Systems and Flight Test Branch, ACE-116A, FAA, Atlanta Aircraft Certification Office, One Crown Center, 1895 Phoenix Boulevard, suite 450, Atlanta, Georgia 30349; telephone (770) 703-6066; fax (770) 703-6097.

SUPPLEMENTARY INFORMATION: On April 16, 2001, the Federal Aviation Administration (FAA) issued Airworthiness Directive (AD) 2001-08-13, amendment 39-12191 (66 FR 20734, April 25, 2001), which applies to certain Gulfstream Model G-1159, G-1159A, G-1159B, G-IV, and G-V series airplanes. That AD requires inspection and modification of certain door control valves of the nose landing gear and the main landing gear. The actions required by that AD are intended to prevent loss of hydraulic system fluid due to failure of the door control valve of the landing gear, which could require the flight crew to use alternate gear extension procedures (landing gear blow down) for landing of all models.

Need for the Correction and Clarification

Since the issuance of that AD, the FAA has received information that requires certain corrections and clarifications for that AD.

In indicating which Gulfstream alert customer bulletin to use in accomplishing the required actions for each of the five Gulfstream airplane models affected, the FAA inadvertently reversed the bulletins indicated for the G-1159, G-1159B, and G-1159A Gulfstream models. That information also was included in the applicability section in the table entitled “Gulfstream Airplane Models and Alert Customer Bulletins (ACB)” and in paragraph (b) of AD 2001-08-13. This document corrects the references to the appropriate alert customer bulletins, and will ensure that the appropriate Gulfstream bulletin is used to accomplish the actions required by this AD for each of the five Gulfstream models to which it applies.

Additionally, this document also corrects and clarifies the compliance time specified for the actions specified in paragraph (b) of the AD. The FAA inadvertently specified the compliance times for paragraphs (b)(1) and (b)(2) of the AD as “* * * after the effective date of this AD.” We intended that the requirements of paragraph (b) of that AD should read “* * * after the date of inspection accomplished per the requirements of paragraph (a) of this AD.” Correction of that wording permits a somewhat extended compliance time for the operators to accomplish the requirements of paragraph (b) of this AD. Therefore, this correction is a relieving requirement for operators and necessitates no additional work or cost burdens.

Correction of the Publication

This document corrects an error, clarifies certain requirements, and correctly adds the AD as an amendment to section 39.13 of the Federal Aviation Regulations (14 CFR 39.13).

The AD is being reprinted in its entirety for the convenience of affected operators. The effective date of the AD remains May 10, 2001.

Since this action only clarifies a current requirement, it has no adverse economic impact and imposes no additional burden on any person. Therefore, notice and public procedures hereon are unnecessary.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. Section 39.13 is amended by correctly adding a new airworthiness directive, to read as follows:

2001-08-13 Gulfstream Aerospace Corporation: Amendment 39-12191. Docket 2001-NM-83-AD.

Applicability: Model G-1159, G-1159A, G-1159B, G-IV, and G-V series airplanes, as specified in the Gulfstream Alert Customer Bulletins listed in the following table; certificated in any category:

Table 1—Gulfstream Airplane Models and Alert Customer Bulletins (ACB)
Model | ACB | Dated
G-1159 and G-1159B (G-II/IIB) series airplanes | No. 27 | March 20, 2001.
G-1159A (G-III) series airplanes | No. 13 | March 20, 2001.
G-IV series airplanes | No. 27 | March 20, 2001.
G-V series airplanes | No. 12 | March 20, 2001.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent loss of hydraulic system fluid due to failure of the door control valve of the landing gear, which could require the flight crew to use alternate gear extension procedures (landing gear blow down) for landing of all models; accomplish the following:

Inspection and Replacement of Valves

(a) Within 15 landings or 30 days after the effective date of this AD, whichever occurs later: Perform a general visual inspection to determine if any landing gear door control valve having Gulfstream part number (P/N) 1159SCH231-33 with Eaton/Sterer P/N 65940-1, -1 Rev. A, or -1 Rev. B, is installed.

Note 2: For the purposes of this AD, a general visual inspection is defined as: “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

(1) If no valve has those P/N's, no further action is required by this paragraph.

(2) If all valves found have P/N 1159SCH231-33 with Eaton/Sterer P/N 65940-1, Rev. C, no further action is required by this paragraph.

(b) If any valve has a door control valve of the landing gear having Gulfstream P/N 1159SCH231-33 with Eaton/Sterer P/N 65940-1 and a serial number as specified in paragraph (b)(1) or (b)(2) of this AD: Replace the set screw with a new set screw, fill with Dow Corning RTV 732 sealant, and label the valve as P/N 65940-1 Rev. C; in accordance with Gulfstream G-II ACB No. 27 (for Model G-1159 and G-1159B series airplanes), G-III ACB No. 13 (for Model G-1159A series airplanes), G-IV ACB No. 27 (for Model G-IV series airplanes), and G-V ACB No. 12 (for Model G-V series airplanes); all dated March 20, 2001, as applicable; at the times specified in paragraph (b)(1) or (b)(2), as applicable.

(1) For valves having serial number 1900 or higher: Within 5 landings or 15 days after the inspection accomplished per the requirements of paragraph (a) of this AD, whichever occurs later.

(2) For valves having a serial number less than 1900: Within 50 landings or 90 days after the inspection accomplished per the requirements of paragraph (a) of this AD, whichever occurs later.

Note 3: The Gulfstream ACB's specified in paragraphs (a) and (b) of this AD reference Eaton Aerospace Sterer Engineering Service Bulletin 65940-27-01, dated March 1, 2001, as an additional source of service information.

(c) As of the effective date of this AD, no person shall install on any airplane a door control valve of the landing gear, Gulfstream P/N 1159SCH231-33 with Eaton/Sterer P/N 65940-1, unless that valve has been modified in accordance with paragraph (b) of this AD.

Alternative Methods of Compliance

(d) An alternative method of compliance or adjustment of the compliance time that provides an acceptable level of safety may be used if approved by the Manager, Atlanta Aircraft Certification Office (ACO), FAA. Operators shall submit their requests through an appropriate FAA Principal Maintenance Inspector, who may add comments and then send it to the Manager, Atlanta ACO.

Note 4: Information concerning the existence of approved alternative methods of compliance with this AD, if any, may be obtained from the Atlanta ACO.

Special Flight Permits

(e) Special flight permits may be issued in accordance with sections 21.197 and 21.199 of the Federal Aviation Regulations (14 CFR 21.197 and 21.199) to operate the airplane to a location where the requirements of this AD can be accomplished.

Incorporation by Reference

(f) With the exception of the general visual inspection required by paragraph (a) of this AD, the actions shall be done in accordance with Gulfstream G-II Alert Customer Bulletin No. 27, dated March 20, 2001; Gulfstream G-III Alert Customer Bulletin No. 13, dated March 20, 2001; Gulfstream G-IV Alert Customer Bulletin No. 27, dated March 20, 2001; and Gulfstream G-V Alert Customer Bulletin No.12, dated March 20, 2001; as applicable. This incorporation by reference was approved previously by the Director of the Federal Register as of May 10, 2001 (66 FR 20734, April 25, 2001). Copies may be obtained from Gulfstream Aerospace Corporation, P.O. Box 2206, M/S D-10, Savannah, Georgia 31402-9980. Copies may be inspected at the FAA, Transport Airplane Directorate, 1601 Lind Avenue, SW., Renton, Washington; at the FAA, Atlanta Aircraft Certification Office, One Crown Center, 1895 Phoenix Boulevard, suite 450, Atlanta, Georgia; or at the Office of the Federal Register, 800 North Capitol Street, NW., suite 700, Washington, DC.

Effective Date

(g) The effective date of this amendment remains May 10, 2001.

Issued in Renton, Washington, on June 21, 2001.
Kalene C. Yanamura,
Acting Manager, Transport Airplane Directorate, Aircraft Certification Service.

[FR Doc. 01-16203 Filed 6-28-01; 8:45 am]

BILLING CODE 4910-13-P